DEPARTMENT OF TRANSPORTATION

Federal Aviation Administration

14 CFR Part 39

[Docket No. FAA-2022-0005; Project Identifier MCAI-2021-01062-R; Amendment 39-21983; AD 2022-06-17]

RIN 2120-AA64

Airworthiness Directives; Airbus Helicopters

AGENCY: Federal Aviation Administration (FAA), DOT.

ACTION: Final rule.

SUMMARY: The FAA is adopting a new airworthiness directive (AD) for all Airbus Helicopters Model EC130T2 helicopters. This AD was prompted by the determination of a certain part needing a life limit and re-identification. This AD requires re-identifying a certain part-numbered engine-to-main gearbox (engine-MGB) coupling shaft, and creating a log card or equivalent record, as specified in a European Union Aviation Safety Agency (EASA) AD, which is incorporated by reference. The FAA is issuing this AD to address the unsafe condition on these products.

DATES: This AD is effective May 9, 2022.

The Director of the Federal Register approved the incorporation by reference of a certain publication listed in this AD as of May 9, 2022.

ADDRESSES: For EASA material incorporated by reference (IBR) in this final rule, contact EASA, Konrad-Adenauer-Ufer 3, 50668 Cologne, Germany; telephone +49 221 8999 000; email ADs@easa.europa.eu; internet www.easa.europa.eu. You may find the EASA material on the EASA website at https://ad.easa.europa.eu. You may view this material at the FAA, Office of the Regional Counsel, Southwest Region, 10101 Hillwood Pkwy., Room 6N-321, Fort Worth, TX 76177. For information on the availability of this material at the FAA, call (817) 222-5110. It is also available in the AD docket at https://www.regulations.gov by searching for and locating Docket No. FAA-2022-0005.

Examining the AD Docket

You may examine the AD docket at https://www.regulations.gov by searching for and locating Docket No. FAA-2022-0005; or in person at Docket Operations between 9 a.m. and 5 p.m., Monday through Friday, except Federal holidays. The AD docket contains this final rule, the EASA AD, any comments received, and other information. The address for Docket Operations is U.S. Department of Transportation, Docket Operations, M-30, West Building Ground Floor, Room W12-140, 1200 New Jersey Avenue SE, Washington, DC 20590.

FOR FURTHER INFORMATION CONTACT: Andrea Jimenez, Aerospace Engineer, COS Program Management Section, Operational Safety Branch, Compliance & Airworthiness Division, FAA, 1600 Stewart Ave., Suite 410, Westbury, NY 11590; telephone (516) 228-7330; email andrea.jimenez@faa.gov.

SUPPLEMENTARY INFORMATION:

Background

EASA, which is the Technical Agent for the Member States of the European Union, has issued EASA AD 2021-0216, dated September 23, 2021 (EASA AD 2021-0216), to correct an unsafe condition for Airbus Helicopters (AH), formerly Eurocopter, Model EC 130 T2 helicopters, all serial numbers.

The FAA issued a notice of proposed rulemaking (NPRM) to amend 14 CFR part 39 by adding an AD that would apply to all Airbus Helicopters Model EC130T2 helicopters. The NPRM published in the Federal Register on January 20, 2022 (87 FR 3050). The NPRM was prompted by the determination from recent analysis related to service life, for the need to introduce a service life limit (life limit) in torque cycles for engine-MGB coupling shaft part number (P/N) 350A35-1100-21. The NPRM proposed to require re-identifying a certain part-numbered engine-MGB coupling shaft by crossing out the old P/N and marking a new P/N and serial number (S/N) on the engine-MGB coupling shaft. The NPRM also proposed to require creating a log card or equivalent record indicating the new P/N, S/N, and the initial value of accumulated torque cycles for the engine-MGB coupling shaft. The NPRM also proposed to prohibit installing an affected engine-MGB coupling shaft on any helicopter.

The FAA is issuing this AD to prevent fatigue failure of the engine-MGB coupling shaft, which if not corrected, could result in loss of control of the helicopter. See EASA AD 2021-0216 for additional background information.

Discussion of Final Airworthiness Directive

Comments

The FAA received no comments on the NPRM or on the determination of the costs.

Conclusion

These helicopters have been approved by EASA and are approved for operation in the United States. Pursuant to the FAA's bilateral agreement with the European Union, EASA has notified the FAA about the unsafe condition described in its AD. The FAA reviewed the relevant data and determined that air safety requires adopting this AD as proposed. Accordingly, the FAA is issuing this AD to address the unsafe condition on these helicopters. This AD is adopted as proposed in the NPRM.

Related Service Information Under 1 CFR Part 51

EASA AD 2021-0216 requires re-identifying each affected engine-MGB coupling shaft, by crossing out the old P/N and marking the new P/N and S/N, and creating a log card indicating the new P/N, S/N, and the initial value of accumulated torque cycles. EASA AD 2021-0216 also prohibits installing an affected engine-MGB coupling shaft on any helicopter.

This material is reasonably available because the interested parties have access to it through their normal course of business or by the means identified in the ADDRESSES section.

Other Related Service Information

The FAA reviewed Airbus Helicopters Alert Service Bulletin No. EC130-04A010, dated July 15, 2021 (ASB EC130-04A010). This service information specifies procedures for re-identifying the engine-MGB coupling shaft by crossing out the old P/N and marking the new P/N and a new S/N using a vibration scriber. ASB EC130-04A010 also specifies instructions for creating a log card for the engine-MGB coupling shaft indicating the new P/N, the new S/N, and the number of torque cycles. Finally, ASB EC130-04A010 specifies instructions for calculating the number of torque cycles that are required to be indicated on the log card.

Differences Between This AD and EASA AD 2021-0216

Service information referenced in EASA AD 2021-0216 specifies sending certain information to the manufacturer; this AD does not. Paragraph (1) of EASA AD 2021-0216 specifies a compliance time of before exceeding 660 flight hours or 24 months after the effective date of EASA AD 2021-0216, whichever occurs first. However, this AD requires compliance before exceeding 660 hours time-in-service or 24 months after the effective date of this AD, whichever occurs first.

Costs of Compliance

The FAA estimates that this AD affects 264 helicopters of U.S. Registry. Labor rates are estimated at $85 per work-hour. Based on these numbers, the FAA estimates the following costs to comply with this AD.

Re-identifying the engine-MGB coupling shaft takes about 4 work-hours for an estimated cost of $340 per helicopter and up to $89,760 for the U.S. fleet.

Creating a log card or equivalent record takes about 1 work-hour for an estimated cost of $85 per log card and up to $22,440 for the U.S. fleet.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2022-06-17 Airbus Helicopters: Amendment 39-21983; Docket No. FAA-2022-0005; Project Identifier MCAI-2021-01062-R.

(a) Effective Date

This airworthiness directive (AD) is effective May 9, 2022.

(b) Affected ADs

None.

(c) Applicability

This AD applies to all Airbus Helicopters Model EC130T2 helicopters, certificated in any category.

(d) Subject

Joint Aircraft Service Component (JASC) Code: 6300, Main Rotor Drive System.

(e) Unsafe Condition

This AD was prompted by the determination of a certain part needing a life limit and re-identification. The FAA is issuing this AD to prevent fatigue failure of the engine-to-main gearbox (engine-MGB) coupling shaft, which if not corrected, could result in loss of control of the helicopter.

(f) Compliance

Comply with this AD within the compliance times specified, unless already done.

(g) Requirements

Except as specified in paragraph (h) of this AD: Comply with all required actions and compliance times specified in, and in accordance with, European Union Aviation Safety Agency (EASA) AD 2021-0216, dated September 23, 2021 (EASA AD 2021-0216).

(h) Exceptions to EASA AD 2021-0216

(1) Where EASA AD 2021-0216 requires compliance in terms of flight hours, this AD requires using hours time-in-service.

(2) Where EASA AD 2021-0216 refers to its effective date, this AD requires using the effective date of this AD.

(3) Where paragraph (1) of EASA AD 2021-0216 specifies “in accordance with the instructions of section 3.B of the ASB,” for this AD replace “in accordance with the instructions of section 3.B of the ASB” with “in accordance with the Accomplishment Instructions, paragraphs 3.B.2. through 3.B.2.b. of the of the ASB.”

(4) Where Note 1 of the service information referenced in EASA AD 2021-0216 specifies to contact Airbus Helicopters if you have more than one non-installed engine-MGB coupling shaft, this AD does not require contacting Airbus Helicopters.

(5) Where the service information referenced in EASA AD 2021-0216 specifies to use a vibration scriber to re-identify the engine-MGB coupling shaft, this AD allows the use of equivalent tooling.

(6) Where the service information referenced in EASA AD 2021-0216 specifies creating a log card for the engine-MGB coupling shaft, this AD requires creating a log card or equivalent record.

(7) This AD does not mandate compliance with the “Remarks” section of EASA AD 2021-0216.

(i) No Reporting Requirement

Although the service information referenced in EASA AD 2021-0216 specifies to submit certain information to the manufacturer, this AD does not include that requirement.

(j) Special Flight Permit

Special flight permits may be issued in accordance with 14 CFR 21.197 and 21.199, provided no passengers are onboard.

(k) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (l) of this AD. Information may be emailed to: 9-AVS-AIR-730-AMOC@faa.gov.

(2) Before using any approved AMOC, notify your appropriate principal inspector, or lacking a principal inspector, the manager of the local flight standards district office/certificate holding district office.

(l) Related Information

For more information about this AD, contact Andrea Jimenez, Aerospace Engineer, COS Program Management Section, Operational Safety Branch, Compliance & Airworthiness Division, FAA, 1600 Stewart Ave., Suite 410, Westbury, NY 11590; telephone (516) 228-7330; email andrea.jimenez@faa.gov.

(m) Material Incorporated by Reference

(1) The Director of the Federal Register approved the incorporation by reference of the service information listed in this paragraph under 5 U.S.C. 552(a) and 1 CFR part 51.

(2) You must use this service information as applicable to do the actions required by this AD, unless this AD specifies otherwise.

(i) European Union Aviation Safety Agency (EASA) AD 2021-0216, dated September 23, 2021.

(ii) [Reserved]

(3) For EASA AD 2021-0216, contact EASA, Konrad-Adenauer-Ufer 3, 50668 Cologne, Germany; telephone +49 221 8999 000; email ADs@easa.europa.eu; internet www.easa.europa.eu. You may find the EASA material on the EASA website at https://ad.easa.europa.eu.

(4) You may view this service information at the FAA, Office of the Regional Counsel, Southwest Region, 10101 Hillwood Pkwy., Room 6N-321, Fort Worth, TX 76177. For information on the availability of this material at the FAA, call (817) 222-5110. This material may be found in the AD docket at https://www.regulations.gov by searching for and locating Docket No. FAA-2022-0005.

(5) You may view this material that is incorporated by reference at the National Archives and Records Administration (NARA). For information on the availability of this material at NARA, email fr.inspection@nara.gov, or go to: https://www.archives.gov/federal-register/cfr/ibr-locations.html.

Issued on March 10, 2022.
Lance T. Gant,
Director, Compliance & Airworthiness Division, Aircraft Certification Service.

[FR Doc. 2022-06942 Filed 4-1-22; 8:45 am]

BILLING CODE 4910-13-P